DEPARTMENT OF THE INTERIOR

National Park Service

36 CFR Chapter 1

Negotiated Rulemaking Advisory Committee for Dog Management at Golden Gate National Recreation Area

AGENCY: National Park Service, Department of the Interior.

ACTION: Notice of meeting.

SUMMARY: Notice is hereby given, in accordance with the Federal Advisory Committee Act (Pub. L. 92-463, 86 Stat. 770, 5 U.S.C. App 1, section 10), of the fifth meeting of the Negotiated Rulemaking Advisory Committee for Dog Management at Golden Gate National Recreation Area (GGNRA).

DATES: The Committee will meet on Thursday, September 21, 2006 in the Officer's Club, upper Fort Mason. The meeting will begin at 3 p.m., and is open to the public.

Although the Committee may modify its agenda during the course of its work, the proposed agenda for this meeting is as follows: agenda review; approval of July 31, 2006 meeting summary; update on activities since July meeting; discuss Technical Subcommittee report; discuss potential selection/evaluation criteria; next steps; public comment; adjourn.

The Committee provides for a public comment period during the meeting; written comments may also be sent to: Superintendent, GGNRA, Ft. Mason, Bldg. 201, San Francisco, CA 94123, Attn: Negotiated Rulemaking.

To request a sign language interpreter, please call the park TDD line (415) 556-2766, at least a week in advance of the meeting. Please note that federal regulations prohibit pets in public buildings, with the exception of service animals.

FOR FURTHER INFORMATION CONTACT: Go to the http://www.parkplanning.nps.gov/goga and select Negotiated Rulemaking for Dog Management at GGNRA or call the project information line at 415-561-4728.

SUPPLEMENTARY INFORMATION: The Committee was established pursuant to the Negotiated Rulemaking Act of 1990 (5 U.S.C. 561-570) to consider developing a special regulation for dogwalking at GGNRA.

Dated: August 15, 2006.
Bernard C. Fagan,
Acting Chief, Office of Policy.

[FR Doc. E6-14205 Filed 8-25-06; 8:45 am]

BILLING CODE 4312-FN-P